DEPARTMENT OF DEFENSE

GENERAL SERVICES ADMINISTRATION

NATIONAL AERONAUTICS AND SPACE ADMINISTRATION

[OMB Control No. 9000-0122]

Information Collection; Scope and Duration of Contract

AGENCIES: Department of Defense (DOD), General Services Administration (GSA), and National Aeronautics and Space Administration (NASA).

ACTION: Notice of request for public comments regarding an extension to an existing OMB clearance (9000-0122).

SUMMARY: Under the provisions of the Paperwork Reduction Act of 1995 (44 U.S.C. Chapter 35), the Federal Acquisition Regulation (FAR) Secretariat will be submitting to the Office of Management and Budget (OMB) a request to review and approve an extension of a currently approved information collection requirement concerning scope and duration of contract. The clearance currently expires on May 31, 2004.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before April 5, 2004.

FOR FURTHER INFORMATION CONTACT: Jerry Zaffos, Acquisition Policy Division, GSA (202) 208-6091.

ADDRESSES: Submit comments regarding this burden estimate or any other aspect of this collection of information, including suggestions for reducing this burden to the General Services Administration, FAR Secretariat, 1800 F Street, NW., Room 4035, Washington, DC 20405. Please cite OMB Control No. 9000-0122, Scope and Duration of Contract, in all correspondence.

SUPPLEMENTARY INFORMATION:

A. Purpose

The FAR clause at 52.241-3 requires the utility to furnish the Government with a complete set of rates, terms and conditions, and any subsequently approved or proposed revisions when proposed.

B. Annual Reporting Burden

Respondents: 1,028.

Responses Per Respondent: 5.

Total Responses: 5,140.

Hours Per Response: .25.

Total Burden Hours: 1,285.

C. Annual Recordkeeping Burden

Recordkeepers: 1,000.

Hours Per Recordkeeper: 1.

Total Recordkeeping Burden Hours: 1,000.

Obtaining Copies of Proposals: Requesters may obtain a copy of the information collection documents from the General Services Administration, FAR Secretariat (MVA), 1800 F Street, NW., Room 4035, Washington, DC 20405, telephone (202) 501-4755. Please cite OMB Control No. 9000-0122, Scope and Duration of Contract, in all correspondence.

Dated: January 30, 2004.
Ralph J. DeStefano,
Acting Director, Acquisition Policy Division.

[FR Doc. 04-2351 Filed 2-4-04; 8:45 am]

BILLING CODE 6820-EP-P